NUCLEAR REGULATORY COMMISSION

Advisory Committee on the Medical Uses of Isotopes: Call for Nominations

AGENCY: U.S. Nuclear Regulatory Commission.

ACTION: Call for nominations.

SUMMARY: The U.S. Nuclear Regulatory Commission (NRC) is advertising for nominations for three positions on the Advisory Committee on the Medical Uses of Isotopes (ACMUI). These positions are: (1) Nuclear cardiology physician; (2) State government representative; and (3) patients' rights advocate.

DATES: Nominations are due on or before February 24, 2003.

ADDRESSES: Submit four copies of your resume or curriculum vitae to the Office of Human Resources, Attn: Ms. Joyce Riner, Mail Stop T2D32, U.S. Nuclear Regulatory Commission, Washington, DC 20555.

FOR FURTHER INFORMATION, CONTACT: Angela R. Williamson, Office of Nuclear Material Safety and Safeguards, U.S. Nuclear Regulatory Commission, Washington, DC 20555; telephone (301) 415-5030; e-mail arw@nrc.gov.

SUPPLEMENTARY INFORMATION: The ACMUI advises NRC on policy and technical issues that arise in the regulation of the medical use of byproduct material. Responsibilities include providing comments on changes to NRC rules, regulations, and guidance documents; evaluating certain non-routine uses of byproduct material; providing technical assistance in licensing, inspection, and enforcement cases; and bringing key issues to the attention of NRC, for appropriate action.

ACMUI members possess the medical and technical skills needed to address evolving issues. The current membership is comprised of the following professionals: (a) Nuclear medicine physician; (b) nuclear cardiology physician; (c) medical physicist in nuclear medicine unsealed byproduct material; (d) therapy physicist; (e) radiation safety officer; (f) nuclear pharmacist; (g) two radiation oncologists; (h) patients' rights advocate; (i) Food and Drug Administration representative; (j) State government representative; (k) interventional cardiology physician; and (l) health care administrator.

NRC is inviting nominations for the approaching vacancies of nuclear cardiology physician, State government employee, and patients' rights advocate. The terms of the individuals currently occupying these positions on the ACMUI will end April 2004. Appointed ACMUI members serve a 3-year term, with possible reappointment to an additional 3-year term.

Nominees must be U.S. citizens and be able to devote approximately 80 hours per year to ACMUI business. Members who are not State or Federal employees are compensated for their services. In addition, members are reimbursed travel (including per-diem in lieu of subsistence) and are reimbursed secretarial and correspondence expenses. Full-time Federal employees or State government employees are reimbursed travel expenses only. Nominees will undergo a security background check and will be required to complete financial disclosure statements, to avoid conflict-of-interest issues.

Dated this 18th day December, 2002.
For the Nuclear Regulatory Commission.
Andrew L. Bates,
Advisory Committee Management Officer, Office of the Secretary of the Commission.

[FR Doc. 02-32404 Filed 12-23-02; 8:45 am]

BILLING CODE 7590-01-P